FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 31, 2015.

A. Federal Reserve Bank of Kansas City (Dennis Denney, Assistant Vice President) 1 Memorial Drive, Kansas City, Missouri 64198-0001:

1. Frank E. Smith, Lander, Wyoming, and Mark A. Kiolbasa, Cheyenne, Wyoming; as a group acting in concert, to acquire voting shares of Commercial Bancorp, and thereby indirectly acquire voting shares of Farmers State Bank, both in Pine Bluffs, Wyoming.

Board of Governors of the Federal Reserve System, March 11, 2015.
Michael J. Lewandowski,
Associate Secretary of the Board.

[FR Doc. 2015-05914 Filed 3-13-15; 8:45 am]

BILLING CODE 6210-01-P